DEPARTMENT OF AGRICULTURE

Forest Service

Genesis Inc. 2009 Exploration Drilling Project; Kootenai National Forest, Lincoln County, MT

AGENCY: Forest Service, USDA.

ACTION: Notice of intent to prepare an environmental impact statement.

SUMMARY: The Department of Agriculture, Forest Service, Kootenai National Forest will prepare an environmental impact statement (EIS) to document the analysis and disclose the environmental impacts of the proposed action to conduct a helicopter-assisted exploration drilling project near Troy, Montana. Genesis, Inc. submitted a proposed Plan of Operations on June 19, 2008, pursuant to Forest Service locatable mineral regulations 36 CFR 228, Subpart A. A single EIS, evaluating all components of the proposed project will be prepared.

Scoping Comment Date: Comments concerning the proposed action must be postmarked by August 25, 2008, to be considered in the draft EIS.

ADDRESSES: Send written comments concerning the Proposed Action to Mike Herrin, Three Rivers District Ranger, Genesis Exploration Project, Kootenai National Forest, 12858 U.S. Hwy. 2, Troy, MT 59935, or e-mail your comments to: comments-northern-kootenai-threerivers@fs.fed.us. All comments received must contain: Name of commenter, postal service mailing address, and date of comment. Comments sent as an e-mail message should be sent as an attachment to the message. A copy on computer-generated disc should accompany all comments over one page in length.

FOR FURTHER INFORMATION CONTACT: Dick Harlow, Project Coordinator, Three River Ranger Station, 12858 U.S. Hwy. 2, Troy, Montana 59935. Phone (406) 293-7773, or e-mail at dharlow@fs.fed.us.

SUPPLEMENTARY INFORMATION:

Proposed Action

The Three Rivers District Ranger of the Kootenai National Forest has received a plan of operations proposing to access three (3) helicopter-supported drill sites on NFS lands in sections 7, 17, & 18, T28N, R33W, MT. P.M., southwest of Bull Lake, in Lincoln and Sanders Counties. These sites were previously drilled in 1999 and this additional exploration drilling is needed to further define ore reserves on the unpatented mining claims. The proposal is to drill 8 core holes from 3 separate locations, utilizing existing openings from previous helicopter drill sites. The holes will vary from 100′ to 1600′ in depth.

The Drilling Plan for the drill sites is to use a pre-constructed metal landing/drill platform (approx. 30′ long x 15′ wide). The platform will be flown to the sites in sections and assembled. The drill will be mounted on the drill platforms on the south side of Ross Creek.

A helicopter staging site will be located near the junction of FR 4628 and FR 4628A. Some site maintenance will be required. This work will include removal of brush and short trees.

Design features and mitigations to maintain and protect resource values would be included.

The proposed implementation period would be June 16, 2009, through November 15, 2009.

Lead and Cooperating Agencies

Montana Department of Environmental Quality, U.S. Fish and Wildlife Service, Montana Department of Natural Resources and Conservation, Confederated Salish and Kootenai Tribes, and Kootenai Tribe of Idaho, have either jurisdiction or interest and will participate as cooperating agencies or government entities in the preparation of this EIS. Other governmental agencies and any public that may be interested in or affected by the proposal are invited to participate in the scoping process, which is designed to obtain input and to identify potential issues relating to the proposed project.

Responsible Official

As the District Ranger of the Three Rivers Ranger District, Kootenai National Forest, I am the Responsible Official. As the Responsible Official, I will decide if the proposed project will be implemented. I will document the decision and reasons for the decision in the Record of Decision.

Range of Alternatives

The Forest Service will consider a range of alternatives. One of these will be the “no action” alternative in which none of the proposed activities will be implemented. Additional alternatives will examine varying levels and locations for the proposed activities to achieve the proposal's purposes, as well as to respond to the issues and other resource values.

Nature of Decision To Be Made

The nature of the decision to be made is to select an action that meets the legal rights of the proponent, while protecting the environment in compliance with applicable laws, regulations and policy. The District Ranger will use the EIS process to develop the necessary information to make an informed decision as required by 36 CFR 228 Subpart A. Based on the alternatives developed in the EIS, the following are possible decisions:

(1) An approval of the Plan of Operations as submitted;

(2) An approval of the Plan of Operations with changes, and the incorporation of mitigations and stipulations that meet the mandates of applicable laws, regulations, and policy;

(3) Denial of the Plan of Operations if no alternative can be developed that is in compliance with applicable laws, regulations and policy.

Permits or Licenses Required

Various permits and licenses are needed prior to implementation of this project. Permits or licenses required by the issuing agencies identified for this proposal are:

• Approval of Plan of Operations from the Kootenai National Forest

• Exploration License from the Montana Department of Environmental Quality

Public Involvement and Scoping: This Notice of Intent initiates the scoping process, which guides the development of the EIS. At this stage of the planning process, site-specific public comments are being requested to determine the scope of the analysis, and identify significant issues and alternatives to the Proposed Action. Comments concerning the proposed action must be postmarked by August 25, 2008, to be considered in the draft EIS. The public is encouraged to take part in the process and to visit with Forest Service officials at any time during the analysis and prior to the decision. The Forest Service will be seeking information, comments, and assistance from Federal, State, and local agencies, Tribal governments, and other individuals or organizations that may be interested in, or affected by, the proposed action. This input will be used in preparation of the draft and final EIS. The scoping process will include:

1. Identifying potential issues.

2. Identifying major issues to be analyzed in depth.

3. Identifying alternatives to the proposed action.

4. Exploring additional alternatives that will be derived from issues recognized during scoping activities.

5. Identifying potential environmental effects of this proposal (i.e. direct, indirect, and cumulative effects and connected actions).

Estimated Dates for Filing: The draft EIS is expected to be filed with the Environmental Protection Agency (EPA) and to be available for public review in December 2008. At that time EPA will publish a Notice of Availability of the draft EIS in the Federal Register. The comment period on the draft EIS will be 45 days from the date the EPA publishes the Notice of Availability in the Federal Register. It is very important that those interested in the management of this area participate at that time.

The final EIS is scheduled to be completed in February 2009. In the final EIS, the Forest Service is required to respond to comments and responses received during the comment period that pertain to the environmental consequences discussed in the draft EIS and to applicable laws, regulations, and policies considered in making a decision regarding the proposal.

Reviewer's Obligations: The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NIRDC, 435 U.S. 519, 553 (1978). Also, environmental objections that could be raised at the draft environmental impact statement stage may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider and respond to them in the final EIS.

To be most helpful, comments on the draft EIS should be as specific as possible and may address the adequacy of the statement or the merit of the alternatives discussed. Reviewers may wish to refer to the Council on Environmental Quality regulations for implementing the procedural provisions of the National Environmental Policy Act at 40 CFR 1503.3 in addressing these points.

Comments received, including the names and addresses of those who comment, will be considered part of the public cord on this proposal, and will be available for public inspection.

Authority: 40 CFR 1501.7 and 1508.22; Forest Service Handbook 1909.15, Section 21.

Dated: July 18, 2008.
Mike Herrin,
District Ranger, Three Rivers Ranger District, Kootenai National Forest.

[FR Doc. E8-17063 Filed 7-24-08; 8:45 am]

BILLING CODE 3410-11-M